DEPARTMENT OF HEALTH AND HUMAN SERVICES

Administration for Children and Families

[OMB No.: 0970-0207]

Submission for OMB Review; Comment Request; Head Start Program Grant Application and Budget Instrument

Description: The Head Start Bureau is proposing to renew, without changes, the Head Start Grant Application and Budget Instrument, which standardizes the grant application information that is requested from all Head Start and Early Head Start grantees applying for continuation grants. The application and budget forms are available on a data diskette and on the web at www.acfgabi.com. Completed applications can be transmitted electronically to Regional and Central Offices. The Administration on Children, Youth and Families believes that this application document makes the process of applying for Head Start program grants more efficient for applicants.

Respondents: Head Start and Early Head Start grantees.

Annual Burden Estimates
Instrument | Number of respondents | Number of responses per respondent | Average burden hours per response | Total burden hours
HS grant and budget instrument | 1,600 | 1 | 33 | 52,800
Estimated total annual burden hours: |  |  |  | 52,800

Additional Information: Copies of the proposed collection may be obtained by writing to the Administration for Children and Families, Office of Administration, Office of Information Services, 370 L'Enfant Promenade, SW., Washington, DC 20447, Attn: ACF Reports Clearance Officer. E-mail address: infocollection@acf.hhs.gov.

OMB Comment: OMB is required to make a decision concerning the collection information between 30 and 60 days after publication of this document in the Federal Register. Therefore, a comment is best assured of having its full effect if OMB receives it within 30 days of publication. Written comments and recommendations for the proposed information collection should be sent directly to the following:

Office of Management and Budget, Paperwork Reduction Project, 725 17th Street, NW., Washington, DC 20503, Attn: Desk Officer for ACF, E-mail address: Katherine_T._Astrich@eop.gov.

Dated: July 27, 2006.
Robert Sargis,
Reports Clearance Officer.

[FR Doc. 06-6619 Filed 8-1-06; 8:45 am]

BILLING CODE 4184-01-M